DEPARTMENT OF ENERGY

Federal Energy Regulatory Commission

Combined Notice of Filings No. 1

November 24, 2010.

Take notice that the Commission received the following electric corporate filings:

Docket Numbers: EC11-23-000.

Applicants: Flat Water Wind Farm, LLC., Flat Water Holdings, LLC.

Description: Application for Authorization of Transaction Pursuant to Section 203 of the Federal Power Act of Flat Water Wind Farm, LLC.

Filed Date: 11/23/2010.

Accession Number: 20101123-5111.

Comment Date: 5 p.m. Eastern Time on Tuesday, December 14, 2010.

Docket Numbers: EC11-24-000.

Applicants: Elk Hills Power, LLC.

Description: Application of Elk Hills Power, LLC.

Filed Date: 11/23/2010.

Accession Number: 20101123-5173.

Comment Date: 5 p.m. Eastern Time on Tuesday, December 14, 2010.

Take notice that the Commission received the following exempt wholesale generator filings:

Docket Numbers: EG11-29-000.

Applicants: Snowflake Power, LLC.

Description: Self-Certification of EWG of Snowflake Power, LLC.

Filed Date: 11/23/2010.

Accession Number: 20101123-5134.

Comment Date: 5 p.m. Eastern Time on Tuesday, December 14, 2010.

Docket Numbers: EG11-30-000.

Applicants: Evergreen Wind Power III, LLC.

Description: Notice of EWG Self-Certification of Evergreen Wind Power III, LLC.

Filed Date: 11/23/2010.

Accession Number: 20101123-5135.

Comment Date: 5 p.m. Eastern Time on Tuesday, December 14, 2010.

Docket Numbers: EG11-31-000.

Applicants: Paradise Solar Urban Renewal, L.L.C.

Description: Notice of Self-Certification of Exempt Wholesale Generator Status of Paradise Solar Urban Renewal, L.L.C.

Filed Date: 11/23/2010.

Accession Number: 20101123-5160.

Comment Date: 5 p.m. Eastern Time on Tuesday, December 14, 2010.

Take notice that the Commission received the following electric rate filings:

Docket Numbers: ER06-1399-009.

Applicants: Sunbury Generation LP.

Description: Sunbury Generation LP submits supplement to its notice of non-material change in status pursuant to the Commission's regulation at 18 CFR, Section 35.42.

Filed Date: 11/18/2010.

Accession Number: 20101118-5136.

Comment Date: 5 p.m. Eastern Time on Thursday, December 09, 2010.

Docket Numbers: ER10-1599-002.

Applicants: Invenergy Cannon Falls LLC.

Description: Invenergy Cannon Falls LLC. submits Supplemental Category 1 Exemption Filing, to be effective 11/3/2010.

Filed Date: 11/23/2010.

Accession Number: 20101123-5068.

Comment Date: 5 p.m. Eastern Time on Tuesday, December 14, 2010.

Docket Numbers: ER10-1600-002.

Applicants: Forward Energy LLC.

Description: Forward Energy LLC. submits tariff filing per 35: Supplemental Category 1 Exemption Filing to be effective 10/30/2010.

Filed Date: 11/24/2010.

Accession Number: 20101124-5034.

Comment Date: 5 p.m. Eastern Time on Wednesday, December 15, 2010.

Docket Numbers: ER10-1601-002.

Applicants: Hardee Power Partners Limited.

Description: Hardee Power Partners Limited submits tariff filing per 35: Supplemental Category 1 Exemption Filing to be effective 11/3/2010.

Filed Date: 11/23/2010.

Accession Number: 20101123-5087.

Comment Date: 5 p.m. Eastern Time on Tuesday, December 14, 2010.

Docket Numbers: ER10-1603-002.

Applicants: Grand Ridge Energy LLC.

Description: Grand Ridge Energy LLC. submits tariff filing per 35: Supplemental Category 1 Exemption Filing to be effective 11/3/2010.

Filed Date: 11/24/2010.

Accession Number: 20101124-5035.

Comment Date: 5 p.m. Eastern Time on Wednesday, December 15, 2010.

Docket Numbers: ER10-1604-002.

Applicants: Grand Ridge Energy II LLC.

Description: Grand Ridge Energy II LLC. submits tariff filing per 35: Supplemental Category 1 Exemption Filing to be effective 11/3/2010.

Filed Date: 11/24/2010.

Accession Number: 20101124-5036.

Comment Date: 5 p.m. Eastern Time on Wednesday, December 15, 2010.

Docket Numbers: ER10-1605-002.

Applicants: Grand Ridge Energy III LLC.

Description: Grand Ridge Energy III LLC. submits tariff filing per 35: Supplemental Category 1 Exemption Filing to be effective 11/3/2010.

Filed Date: 11/24/2010.

Accession Number: 20101124-5037.

Comment Date: 5 p.m. Eastern Time on Wednesday, December 15, 2010.

Docket Numbers: ER10-1606-002.

Applicants: Grand Ridge Energy IV LLC.

Description: Grand Ridge Energy IV LLC. submits tariff filing per 35: Supplemental Category 1 Exemption Filing to be effective 10/30/2010.

Filed Date: 11/23/2010.

Accession Number: 20101123-5075.

Comment Date: 5 p.m. Eastern Time on Tuesday, December 14, 2010.

Docket Numbers: ER10-1607-002

Applicants: Grand Ridge Energy V LLC.

Description: Grand Ridge Energy V LLC. submits tariff filing per 35: Supplemental Category 1 Exemption Filing to be effective 10/30/2010.

Filed Date: 11/23/2010.

Accession Number: 20101123-5081.

Comment Date: 5 p.m. Eastern Time on Tuesday, December 14, 2010.

Docket Numbers: ER10-1608-002.

Applicants: Invenergy TN LLC.

Description: Invenergy TN LLC. submits tariff filing per 35: Supplemental Category 1 Exemption Filing to be effective 11/3/2010.

Filed Date: 11/23/2010.

Accession Number: 20101123-5091.

Comment Date: 5 p.m. Eastern Time on Tuesday, December 14, 2010.

Docket Numbers: ER10-1609-002.

Applicants: Judith Gap Energy LLC.

Description: Judith Gap Energy LLC. submits tariff filing per 35: Supplemental Category 1 Exemption Filing to be effective 11/3/2010.

Filed Date: 11/23/2010.

Accession Number: 20101123-5094.

Comment Date: 5 p.m. Eastern Time on Tuesday, December 14, 2010.

Docket Numbers: ER10-1610-002.

Applicants: Wolverine Creek Energy LLC.

Description: Wolverine Creek Energy LLC. submits tariff filing per 35: Supplemental Category 1 Exemption Filing to be effective 11/3/2010.

Filed Date: 11/23/2010.

Accession Number: 20101123-5097.

Comment Date: 5 p.m. Eastern Time on Tuesday, December 14, 2010.

Docket Numbers: ER10-1611-002.

Applicants: Grays Harbor Energy LLC.

Description: Grays Harbor Energy LLC. submits tariff filing per 35: Supplemental Category 1 Exemption Filing to be effective 11/3/2010.

Filed Date: 11/23/2010.

Accession Number: 20101123-5083.

Comment Date: 5 p.m. Eastern Time on Tuesday, December 14, 2010.

Docket Numbers: ER10-1612-002.

Applicants: Spring Canyon Energy LLC.

Description: Spring Canyon Energy LLC. submits tariff filing per 35: Supplemental Category 1 Exemption Filing to be effective 11/3/2010.

Filed Date: 11/23/2010.

Accession Number: 20101123-5096.

Comment Date: 5 p.m. Eastern Time on Tuesday, December 14, 2010.

Docket Numbers: ER10-1613-002.

Applicants: Spindle Hill Energy LLC.

Description: Spindle Hill Energy LLC. submits tariff filing per 35: Supplemental Category 1 Exemption Filing to be effective 11/3/2010.

Filed Date: 11/23/2010.

Accession Number: 20101123-5095.

Comment Date: 5 p.m. Eastern Time on Tuesday, December 14, 2010.

Docket Numbers: ER10-1614-002.

Applicants: Sheldon Energy LLC.

Description: Sheldon Energy LLC. submits tariff filing per 35: Supplemental Category 1 Exemption Filing to be effective 11/3/2010.

Filed Date: 11/24/2010.

Accession Number: 20101124-5038.

Comment Date: 5 p.m. Eastern Time on Wednesday, December 15, 2010.

Docket Numbers: ER10-1615-002.

Applicants: Willow Creek Energy LLC.

Description: Willow Creek Energy LLC. submits tariff filing per 35: Supplemental Category 1 Exemption Filing to be effective 11/3/2010.

Filed Date: 11/24/2010.

Accession Number: 20101124-5039.

Comment Date: 5 p.m. Eastern Time on Wednesday, December 15, 2010.

Docket Numbers: ER10-2288-001.

Applicants: Optim Energy Marketing LLC.

Description: Optim Energy Marketing LLC. submits tariff filing per 35: Optim MBR Tariff Compliance filing to be effective 11/23/2010.

Filed Date: 11/22/2010.

Accession Number: 20101122-5146.

Comment Date: 5 p.m. Eastern Time on Monday, December 13, 2010.

Docket Numbers: ER10-2302-001.

Applicants: Public Service Company of New Mexico.

Description: Public Service Company of New Mexico submits its Compliance update of its Market Based Rates Tariff, FERC Electric Tariff, Volume No. 3, to be effective 11/24/2010.

Filed Date: 11/24/2010.

Accession Number: 20101124-5000.

Comment Date: 5 p.m. Eastern Time on Wednesday, December 15, 2010.

Docket Numbers: ER10-2487-000.

Applicants: Pacific Summit Energy LLC.

Description: Pacific Summit Energy LLC. submits tariff filing per: Pacific Summit Energy LLC. Supplemental Baseline to be effective 11/9/2010.

Filed Date: 11/09/2010.

Accession Number: 20101109-5120.

Comment Date: 5 p.m. Eastern Time on Tuesday, November 30, 2010.

Docket Numbers: ER10-2653-001.

Applicants: Snowflake Power, LLC.

Description: Snowflake Power, LLC. Notice of Non-Material Change in Status.

Filed Date: 11/23/2010.

Accession Number: 20101123-5109.

Comment Date: 5 p.m. Eastern Time on Tuesday, December 14, 2010.

Docket Numbers: ER10-2918-001.

Applicants: Carr Street Generating Station, L.P.

Description: Carr Street Generating Station, L.P. submits tariff filing per 35: Car Street Generating Station, L.P. Baseline Market-Based Rate Tariff to be effective 9/24/2010.

Filed Date: 11/22/2010.

Accession Number: 20101122-5145.

Comment Date: 5 p.m. Eastern Time on Monday, December 13, 2010.

Docket Numbers: ER10-2933-001.

Applicants: ISO New England Inc.

Description: ISO New England Inc. submits tariff filing per 35: Notice of Effective Date for Unsecured Credit Revisions ER10-2933 to be effective 1/26/2011.

Filed Date: 11/18/2010.

Accession Number: 20101118-5046.

Comment Date: 5 p.m. Eastern Time on Thursday, December 09, 2010.

Docket Numbers: ER10-3018-001.

Applicants: Delmarva Power & Light Company.

Description: Delmarva Power & Light Company submits compliance filing to remove First Revised Volume No 1 designation on its Market Based Rate Tariff, to be effective 9/27/2010.

Filed Date: 11/18/2010.

Accession Number: 20101118-5000.

Comment Date: 5 p.m. Eastern Time on Thursday, December 09, 2010.

Docket Numbers: ER10-3150-001.

Applicants: Sunoco Power Generation LLC.

Description: Sunoco Power Generation LLC. submits tariff filing per 35: Sunoco Power Generation Baseline Filing to be effective 11/18/2010.

Filed Date: 11/18/2010.

Accession Number: 20101118-5063.

Comment Date: 5 p.m. Eastern Time on Thursday, December 09, 2010.

Docket Numbers: ER10-3183-001.

Applicants: Sunoco Power Marketing, LLC.

Description: Sunoco Power Marketing, LLC submits tariff filing per 35: Sunoco Power Marketing Baseline Filing to be effective 11/18/2010.

Filed Date: 11/18/2010.

Accession Number: 20101118-5062.

Comment Date: 5 p.m. Eastern Time on Thursday, December 09, 2010.

Docket Numbers: ER10-3319-000.

Applicants: Astoria Energy II LLC.

Description: Astoria Energy II Files Letter Per Staff Under ER10-3319 (11-18-2010) with App. B and Privileged Supplement.

Filed Date: 11/18/2010.

Accession Number: 20101118-5167.

Comment Date: 5 p.m. Eastern Time on Thursday, December 09, 2010.

Docket Numbers: ER10-3319-001.

Applicants: Astoria Energy II LLC.

Description: Astoria Energy II LLC submits tariff filing per 35: Astoria Energy II LLC. MBR E-Tariff to be effective 11/30/2010.

Filed Date: 11/23/2010.

Accession Number: 20101123-5034.

Comment Date: 5 p.m. Eastern Time on Tuesday, December 14, 2010.

Docket Numbers: ER11-2020-001.

Applicants: Domtar Paper Company, LLC.

Description: Domtar Paper Company, LLC. submits tariff filing per 35: Amendment to Domtar Paper MBR Filing to be effective 1/1/2011.

Filed Date: 11/23/2010.

Accession Number: 20101123-5119.

Comment Date: 5 p.m. Eastern Time on Tuesday, December 14, 2010.

Docket Numbers: ER11-2021-001.

Applicants: Domtar A.W. LLC.

Description: Domtar A.W. LLC. submits tariff filing per 35: Domtar AW MBR Amendment to be effective 1/1/2011.

Filed Date: 11/23/2010.

Accession Number: 20101123-5123.

Comment Date: 5 p.m. Eastern Time on Tuesday, December 14, 2010.

Docket Numbers: ER11-2032-001.

Applicants: New Harvest Wind Project LLC.

Description: New Harvest Wind Project LLC submits tariff filing per 35.17(b): Amendment to Market-Based Rate Application to be effective 1/3/2011.

Filed Date: 11/18/2010.

Accession Number: 20101118-5028.

Comment Date: 5 p.m. Eastern Time on Thursday, December 09, 2010.

Docket Numbers: ER11-2058-001.

Applicants: PJM Interconnection, L.L.C., Commonwealth Edison Company.

Description: PJM Interconnection, L.L.C. submits tariff filing per 35.17(b): ComEd Submits Appendices to ComED & ATC Upgrade Agreement to be effective 11/9/2010.

Filed Date: 11/19/2010.

Accession Number: 20101119-5163.

Comment Date: 5 p.m. Eastern Time on Tuesday, November 30, 2010.

Docket Numbers: ER11-2112-001.

Applicants: Blue Creek Wind Farm LLC.

Description: Blue Creek Wind Farm LLC. submits tariff filing per 35.17(b): Amendment to Market-Based Rate Application to be effective 1/14/2011.

Filed Date: 11/18/2010.

Accession Number: 20101118-5029.

Comment Date: 5 p.m. Eastern Time on Thursday, December 09, 2010.

Docket Numbers: ER11-2139-001.

Applicants: California Independent System Operator Corporation.

Description: California Independent System Operator Corporation submits tariff filing per 35.17(b): 2010-11-22 Errata to CAISO's LGIA for Manzana Wind Project with SCE to be effective 1/10/2011.

Filed Date: 11/22/2010.

Accession Number: 20101122-5054.

Comment Date: 5 p.m. Eastern Time on Monday, December 13, 2010.

Docket Numbers: ER11-2147-000.

Applicants: Southwest Power Pool, Inc.

Description: Errata Filing of Southwest Power Pool, Inc.

Filed Date: 11/23/2010.

Accession Number: 20101123-5061.

Comment Date: 5 p.m. Eastern Time on Tuesday, December 14, 2010.

Docket Numbers: ER11-2171-000.

Applicants: HOP Energy, LLC.

Description: HOP Energy, LLC. submits tariff filing per 35.1: FERC Baseline Electric Tariff to be effective 11/1/2010.

Filed Date: 11/23/2010.

Accession Number: 20101123-5063.

Comment Date: 5 p.m. Eastern Time on Tuesday, December 14, 2010.

Docket Numbers: ER11-2172-000.

Applicants: Vermont Transco, LLC.

Description: Vermont Transco, LLC. submits tariff filing per 35.12: Substation Participation Agreement, Service Agreement No. 1 to be effective 12/1/2010.

Filed Date: 11/23/2010.

Accession Number: 20101123-5066.

Comment Date: 5 p.m. Eastern Time on Tuesday, December 14, 2010.

Docket Numbers: ER11-2173-000.

Applicants: Midwest Independent Transmission System Operator, Inc.

Description: Midwest Independent Transmission System Operator, Inc. submits Wholesale Distribution Service Agreement with Ameren Illinois Company et al, to be effective 10/1/2010.

Filed Date: 11/23/2010.

Accession Number: 20101123-5070.

Comment Date: 5 p.m. Eastern Time on Tuesday, December 14, 2010.

Docket Numbers: ER11-2174-000.

Applicants: Duke Energy Ohio, Inc.

Description: Notice of Cancellation of DEO RS no. 61.

Filed Date: 11/23/2010.

Accession Number: 20101123-5108.

Comment Date: 5 p.m. Eastern Time on Tuesday, December 14, 2010.

Docket Numbers: ER11-2175-000.

Applicants: SGE Energy Sourcing, LLC.

Description: SGE Energy Sourcing, LLC. submits tariff filing per 35.1: Baseline Market-Based Rate Tariff Filing for SGE Energy Sourcing, LLC. to be effective 11/23/2010.

Filed Date: 11/23/2010.

Accession Number: 20101123-5115.

Comment Date: 5 p.m. Eastern Time on Tuesday, December 14, 2010.

Docket Numbers: ER11-2176-000.

Applicants: Stream Energy Pennsylvania, LLC.

Description: Stream Energy Pennsylvania, LLC submits tariff filing per 35.1: Stream Energy Pennsylvania, LLC. Market-Based Rate Tariff (Baseline) to be effective 11/23/2010.

Filed Date: 11/23/2010.

Accession Number: 20101123-5122.

Comment Date: 5 p.m. Eastern Time on Tuesday, December 14, 2010.

Docket Numbers: ER11-2177-000.

Applicants: Southern California Edison Company.

Description: Southern California Edison Company submits tariff filing per 35.13(a)(2)(iii): LGIA Granite Wind LLC. SA 91 to be effective 11/24/2010.

Filed Date: 11/23/2010.

Accession Number: 20101123-5124.

Comment Date: 5 p.m. Eastern Time on Tuesday, December 14, 2010.

Docket Numbers: ER11-2178-000.

Applicants: Southern California Edison Company.

Description: Southern California Edison Company submits tariff filing per 35.13(a)(2)(iii): Addition of three transmission projects to TO Tariff CWIP Ratemaking Mechanism to be effective 12/1/2010.

Filed Date: 11/23/2010.

Accession Number: 20101123-5127.

Comment Date: 5 p.m. Eastern Time on Tuesday, December 14, 2010.

Docket Numbers: ER11-2179-000.

Applicants: Planet Energy (New York) Corp.

Description: Planet Energy (New York) Corp. submits tariff filing per 35.1: Planet Energy (New York) MBR Application to be effective 11/23/2010.

Filed Date: 11/23/2010.

Accession Number: 20101123-5128.

Comment Date: 5 p.m. Eastern Time on Tuesday, December 14, 2010.

Docket Numbers: ER11-2180-000.

Applicants: Ameren Illinois Company.

Description: Ameren Illinois Company submits tariff filing per 35.13(a)(2)(iii): Amendment D to Legacy Service Agreements to be effective, 12/31/9998.

Filed Date: 11/24/2010.

Accession Number: 20101124-5032.

Comment Date: 5 p.m. Eastern Time on Wednesday, December 15, 2010.

Docket Numbers: ER11-2181-000.

Applicants: Ameren Illinois Company.

Description: Ameren Illinois Company submits tariff filing per 35.13(a)(2)(iii): Amendment E to Legacy Agreements to be effective 12/31/9998.

Filed Date: 11/24/2010.

Accession Number: 20101124-5040.

Comment Date: 5 p.m. Eastern Time on Wednesday, December 15, 2010.

Take notice that the Commission received the following foreign utility company status filings:

Docket Numbers: FC11-2-000.

Applicants: Starwood Solar V, LLC.

Description: Notice of Self-Certification of Foreign Utility Company Status of Starwood Solar V, LLC..

Filed Date: 11/22/2010.

Accession Number: 20101122-5218.

Comment Date: 5 p.m. Eastern Time on Monday, December 13, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. 2010-30919 Filed 12-8-10; 8:45 am]

BILLING CODE 6717-01-P